ENVIRONMENTAL PROTECTION AGENCY

40 CFR Part 52

[EPA-R06-OAR-2020-0434; FRL-12215-02-R6]

Determination of Attainment by the Attainment Date for the 2010 1-Hour Primary Sulfur Dioxide National Ambient Air Quality Standard; Texas; Freestone-Anderson and Titus Counties

AGENCY: Environmental Protection Agency (EPA).

ACTION: Final rule.

SUMMARY: Pursuant to the Federal Clean Air Act (CAA or the Act), the Environmental Protection Agency (EPA) is finalizing our determination that the sulfur dioxide (SO2) nonattainment area (NAA) in Freestone and Anderson Counties and the SO2 NAA in Titus County have each attained the 2010 1-hour primary SO2 national ambient air quality standard (NAAQS) by the applicable attainment date of January 12, 2022. This determination is based on primary source shutdowns, available ambient air quality monitoring data from the 2019-2021 monitoring period, relevant modeling analysis, and additional emissions inventory information. This final action will address the EPA's obligation under CAA section 179(c) to determine whether the Freestone-Anderson and Titus SO2 NAAs attained the 2010 1-hour primary SO2 NAAQS by the statutory attainment date of January 12, 2022, for each area.

DATES: This rule is effective on January 15, 2025.

ADDRESSES: The EPA has established a docket for this action under Docket ID No. EPA-R06-OAR-2020-0434. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: James E. Grady, EPA Region 6 Office, Regional Haze and SO2 Section, (214) 665-6745; grady.james@epa.gov. Please call or email Mr. Grady above or call Mr. Bill Deese at 214-665-7253 if you need alternative access to material indexed but not provided in the docket.

SUPPLEMENTARY INFORMATION: Throughout this document “we,” “us,” and “our” mean “the EPA.”

I. Background

The background for this action is discussed in detail in our September 3, 2024, proposed action (89 FR 71230). In that document, we proposed to determine that the Freestone-Anderson and Titus NAAs attained the 2010 1-hour primary SO2 NAAQS by the statutory attainment date of January 12, 2022. This satisfies the obligation under CAA section 179(c) which required EPA to issue a determination within 6 months of the attainment date (i.e., by July 12, 2022). Our proposed determination was based on EPA's previous clean data determination (CDD) published on May 14, 2021; ¹ the permanent and enforceable shutdowns of the primary sources of SO2 emissions in these areas; the available modeling analysis demonstrating that the Big Brown Steam Electric Station in Freestone County and the Monticello Steam Electric Station in Titus County were responsible for almost 100 percent of the SO2 impacts on the maximum modeled concentrations in each respective area; review of emissions data showing emissions within the Freestone-Anderson and Titus NAA's have been reduced by nearly 100 percent with the retirements of Big Brown and Monticello Steam Electric Stations in 2018 and that no other sources remain that are contributing to a violation of the SO2 NAAQS in those NAAs; and the Freestone County and Welsh monitors' reported 2019-2021 design values of 5 ppb (7 percent of the standard) and 19 ppb (25 percent of the standard) providing additional evidence that these areas are in attainment.

¹ 86 FR 26401 (May 14, 2021) (effective June 14, 2021).

II. Response to Comments

The public comment period for our proposed determination of attainment by the attainment date expired on October 3, 2024. We received two comments total; ² one from the Texas Commission on Environmental Quality (TCEQ) supporting our proposed action; and one that was outside the scope of this action and not related to the SO2 NAAs or our proposed determination. TCEQ's comment included a request that EPA act on the Redesignation Request and Maintenance Plan SIP revision submitted on March 3, 2022, and we plan to act on that SIP submittal in a separate action in the future. Since there were no adverse comments received, we are finalizing our action as proposed.

² The full text of the comments is available in the docket for this action.

III. Final Action

The EPA is finalizing our determination that the SO2 NAA in Freestone and Anderson Counties and the SO2 NAA in Titus County have each attained the 2010 1-hour primary SO2 NAAQS by the applicable attainment date of January 12, 2022. This determination is based on primary source shutdowns, available ambient air quality monitoring data from the 2019-2021 monitoring period, relevant modeling analysis, and additional emissions inventory information. This fulfills EPA's obligation under CAA section 179(c) to determine whether the NAAs attained the SO2 NAAQS by the statutory attainment date.

This action does not constitute a redesignation of the Freestone-Anderson and Titus NAA's to attainment of the 2010 1-hour SO2 NAAQS under section 107(d)(3) of the CAA. The Freestone-Anderson and Titus NAA's will remain designated nonattainment for the 2010 1-hour SO2 NAAQS until EPA revises the area's designation under CAA section 107(d)(3).

IV. Environmental Justice Considerations

Information on Executive Order 12898 (Federal Actions to Address Environmental Justice in Minority Populations and Low-Income Populations, 59 FR 7629, February 16, 1994) and how EPA defines environmental justice (EJ) can be found in the section titled “V. Statutory and Executive Order Reviews.” EPA provided additional analysis of EJ associated with this action for the purpose of providing information to the public in the September 3, 2024, proposed action (89 FR 71230). This action is finalizing our proposed determination of attainment by the attainment date for the Freestone-Anderson and Titus SO2 NAAs. We expect that this action will have a neutral effect on the communities with EJ concerns, as this action only identifies that the areas attained the 2010 1-hour primary SO2 NAAQS by the attainment date.

V. Statutory and Executive Order Reviews

This action determined that two areas have attained the SO2 NAAQS by the relevant attainment dates and does not impose additional or modify existing requirements. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, this final action, the finding of attainment by the attainment date for the Freestone-Anderson and Titus SO2 NAAs, does not have tribal implications as specified by Executive Order 13175 (65 FR 67249, November 9, 2000), because this action is not intended to apply in Indian country located in the State, and the EPA notes that it will not impose substantial direct costs on tribal governments or preempt tribal law.

Executive Order 12898 (Federal Actions to Address Environmental Justice in Minority Populations and Low-Income Populations, 59 FR 7629, Feb. 16, 1994) directs Federal agencies to identify and address “disproportionately high and adverse human health or environmental effects” of their actions on communities with EJ concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

This action is exempt from the Congressional Review Act because it is a rule of particular applicability. The rule makes factual determinations for an identified entity (the Freestone-Anderson and Titus areas of Texas), based on facts and circumstances specific to that entity. The determination of attainment of the 2010 SO2 NAAQS does not in itself create any new requirements beyond what is mandated by the CAA.

Under section 307(b)(1) of the CAA, petitions for judicial review of this action must be filed in the United States Court of Appeals for the appropriate circuit by February 14, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur oxides.

Dated: December 9, 2024.
Earthea Nance,
Regional Administrator, Region 6.

For the reasons stated in the preamble, the Environmental Protection Agency amends 40 CFR part 52 as follows:

PART 52—APPROVAL AND PROMULGATION OF IMPLEMENTATION PLANS

1. The authority citation for part 52 continues to read as follows:

Authority: 42 U.S.C. 7401 et seq.

Subpart SS—Texas

2. In § 52.2277, revise paragraph (b) to read as follows:

§ 52.2277 Control strategy and regulations: Sulfur Dioxide.

* * * * *

(b) Determination of Attainment by the Attainment Date. Effective January 15, 2025, the EPA finalizes its determination that the sulfur dioxide nonattainment area in Freestone and Anderson Counties and the sulfur dioxide nonattainment area in Titus County have each attained the 2010 1-hour primary sulfur dioxide National Ambient Air Quality Standard by the applicable attainment date of January 12, 2022, in accordance with CAA section 179(c). This determination is based on primary source shutdowns, available ambient air quality monitoring data from the 2019-2021 monitoring period, relevant modeling analysis, and additional emissions inventory information.

[FR Doc. 2024-29436 Filed 12-13-24; 8:45 am]

BILLING CODE 6560-50-P